LEGAL SERVICES CORPORATION

Notice of Intent To Award—Grant Awards for the Provision of Civil Legal Services to Eligible Low-Income Clients Beginning January 1, 2005

AGENCY: Legal Services Corporation.

ACTION: Announcement of intention to make FY 2005 Competitive Grant Awards.

SUMMARY: The Legal Services Corporation (LSC) hereby announces its intention to award grants and contracts to provide economical and effective delivery of high quality civil legal services to eligible low-income clients, beginning January 1, 2005.

DATES: All comments and recommendations must be received on or before the close of business on November 3, 2004.

ADDRESSES: Legal Services Corporation—Competitive Grants, Legal Services Corporation; 3333 K Street, NW., Third Floor; Washington, DC 20007.

FOR FURTHER INFORMATION CONTACT: Reginald Haley, Office of Program Performance, (202) 295-1545.

SUPPLEMENTARY INFORMATION: Pursuant to LSC's announcement of funding availability on April 16, 2004 (69 FR 20650), July 20, 2004 (69 FR 43456), and Grant Renewal applications due on August 9, 2004, LSC intends to award funds to the following organizations to provide civil legal services in the indicated service areas. Amounts are estimates and are subject to change.

State/service area | Applicant name | Estimated grant amount
Alabama
AL-4 | Legal Services Corporation of Alabama, Inc. | $5,882,590
MAL | Texas RioGrande Legal Aid | 30,126
Alaska
AK-1 | Alaska Legal Services Corporation | 681,012
NAK-1 | Alaska Legal Services Corporation | 496,293
American Samoa
AS-1 | Uunai Legal Services Clinic | 294,290
Arizona
AZ-2 | DNA-Peoples Legal Services, Inc. | 494,186
AZ-3 | Community Legal Services, Inc. | 3,567,025
AZ-5 | Southern Arizona Legal Aid, Inc. | 1,720,404
MAZ | Community Legal Services, Inc. | 135,948
NAZ-5 | DNA-Peoples Legal Services, Inc. | 2,394,630
NAZ-6 | Southern Arizona Legal Aid, Inc. | 584,938
Arkansas
AR-6 | Legal Aid of Arkansas, Inc. | 1,370,094
AR-7 | Center for Arkansas Legal Services | 2,045,186
MAR | Texas RioGrande Legal Aid | 72,376
California
CA-1 | California Indian Legal Services, Inc. | 31,109
CA-2 | Greater Bakersfield Legal Assistance, Inc. | 864,263
CA-12 | Inland Counties Legal Services, Inc. | 3,840,107
CA-14 | Legal Aid Society of San Diego, Inc. | 2,685,331
CA-19 | Legal Aid Society of Orange County, Inc. | 3,750,684
CA-26 | Central California Legal Services | 2,703,939
CA-27 | Legal Services of Northern California, Inc. | 3,341,144
CA-28 | Bay Area Legal Aid | 3,938,831
CA-29 | Legal Aid Foundation of Los Angeles | 7,467,817
CA-30 | Neighborhood Legal Services of Los Angeles County | 4,411,173
CA-31 | California Rural Legal Assistance, Inc. | 4,408,242
MCA | California Rural Legal Assistance, Inc. | 2,417,178
NCA-1 | California Indian Legal Services, Inc. | 810,754
Colorado
CO-6 | Colorado Legal Services | 3,158,342
MCO | Colorado Legal Services | 135,991
NCO-1 | Colorado Legal Services | 88,130
Connecticut
CT-1 | Statewide Legal Services of Connecticut, Inc. | 2,182,768
NCT-1 | Pine Tree Legal Assistance, Inc. | 14,367
Delaware
DE-1 | Legal Services Corporation of Delaware, Inc. | 569,313
MDE | Legal Aid Bureau, Inc. | 22,733
District of Columbia
DC-1 | Neighborhood Legal Svcs. Prog. of the Dist. of Col. | 927,440
Florida
FL-5 | Legal Services of Greater Miami, Inc. | 3,250,866
FL-13 | Legal Services of North Florida, Inc. | 1,334,870
FL-14 | Three Rivers Legal Services, Inc. | 1,644,159
FL-15 | Central Florida Legal Services, Inc. | 2,838,100
FL-16 | Bay Area Legal Services, Inc. | 2,408,141
FL-17 | Florida Rural Legal Services, Inc. | 2,535,229
FL-18 | Coast to Coast Legal Aid of South Florida, Inc. | 1,704,591
MFL | Florida Rural Legal Services, Inc. | 822,354
Georgia
GA-1 | Atlanta Legal Aid Society, Inc. | 2,371,271
GA-2 | Georgia Legal Services Program | 6,025,712
MGA | Georgia Legal Services Program | 358,999
Guam
GU-1 | Guam Legal Services Corporation | 294,680
Hawaii
HI-1 | Legal Aid Society of Hawaii | 1,211,084
MHI | Legal Aid Society of Hawaii | 63,101
NHI-1 | Native Hawaiian Legal Corporation | 210,209
Idaho
ID-1 | Idaho Legal Aid Services, Inc. | 1,088,576
MID | Idaho Legal Aid Services, Inc. | 171,149
NID-1 | Idaho Legal Aid Services, Inc. | 59,619
Illinois
IL-3 | Land of Lincoln Legal Assistance Foundation, Inc. | 2,371,100
IL-6 | Legal Assistance Foundation of Metropolitan Chicago | 5,961,519
IL-7 | Prairie State Legal Services, Inc. | 2,531,096
MIL | Legal Assistance Foundation of Metropolitan Chicago | 228,574
Indiana
IN-5 | Indiana Legal Services, Inc. | 4,634,588
MIN | Indiana Legal Services, Inc. | 104,111
Iowa
IA-3 | Iowa Legal Aid | 2,261,123
MIA | Iowa Legal Aid | 34,549
Kansas
KS-1 | Kansas Legal Services, Inc. | 2,172,868
MKS | Kansas Legal Services, Inc. | 10,884
Kentucky
KY-2 | Legal Aid Society | 1,109,858
KY-5 | Appalachian Research and Defense Fund of Kentucky | 1,922,768
KY-9 | Cumberland Trace Legal Services, Inc. | 1,151,463
KY-10 | Legal Aid of the Bluegrass | 1,191,962
MKY | Texas RioGrande Legal Aid | 38,970
Louisiana
LA-1 | Capital Area Legal Services Corporation | 1,337,342
LA-10 | Acadiana Legal Service Corporation | 1,914,414
LA-11 | Legal Services of North Louisiana, Inc. | 1,800,999
LA-12 | Southeast Louisiana Legal Services Corporation | 2,404,639
MLA | Texas RioGrande Legal Aid | 25,214
Maine
ME-1 | Pine Tree Legal Assistance, Inc. | 1,081,936
MMX-1 | Pine Tree Legal Assistance, Inc. | 114,359
NME-1 | Pine Tree Legal Assistance, Inc. | 59,148
Maryland
MD-1 | Legal Aid Bureau, Inc. | 3,632,234
MMD | Legal Aid Bureau, Inc. | 83,250
Massachusetts
MA-4 | Merrimack Valley Legal Services, Inc. | 759,942
MA-10 | Massachusetts Justice Project, Inc. | 1,381,241
MA-11 | Volunteer Lawyers Project of the Boston Bar Association | 1,864,560
MA-12 | Legal Services for Cape Cod and Islands, Inc. | 835,762
MA-12 | New Center for Legal Advocacy, Inc. | 835,762
Michigan
MI-9 | Legal Services of Northern Michigan, Inc. | 686,410
MI-12 | Legal Services of South Central Michigan | 1,220,052
MI-13 | Legal Aid and Defender Association, Inc. | 3,680,653
MI-14 | Legal Services of Eastern Michigan | 1,340,411
MI-14 | Lakeshore Legal Aid | 1,340,411
MI-15 | Western Michigan Legal Services | 1,562,582
MMI | Legal Services of South Central Michigan | 551,170
NMI-1 | Michigan Indian Legal Services, Inc. | 151,064
Micronesia
MP-1 | Micronesian Legal Services, Inc. | 1,510,302
Minnesota
MN-1 | Legal Aid Service of Northeastern Minnesota | 406,291
MN-4 | Legal Services of Northwest Minnesota Corporation | 373,127
MN-5 | Southern Minnesota Regional Legal Services, Inc. | 1,147,098
MN-6 | Central Minnesota Legal Services, Inc. | 1,241,922
MMN | Southern Minnesota Regional Legal Services, Inc. | 183,201
NMN-1 | Anishinabe Legal Services, Inc. | 219,305
Mississippi
MS-9 | North Mississippi Rural Legal Services, Inc. | 1,964,847
MS-10 | Mississippi Center for Legal Services | 2,817,420
MMS | Texas RioGrande Legal Aid | 52,258
NMS-1 | Mississippi Center for Legal Services | 76,283
Missouri
MO-3 | Legal Aid of Western Missouri | 1,626,018
MO-4 | Legal Services of Eastern Missouri, Inc. | 1,795,193
MO-5 | Mid-Missouri Legal Services Corporation | 357,864
MO-7 | Legal Services of Southern Missouri | 1,549,120
MMO | Legal Aid of Western Missouri | 74,592
Montana
MT-1 | Montana Legal Services Association | 1,037,156
MMT | Montana Legal Services Association | 49,980
NMT-1 | Montana Legal Services Association | 146,118
Nebraska
NE-4 | Nebraska Legal Services | 1,327,195
MNE | Nebraska Legal Services | 38,715
NNE-1 | Nebraska Legal Services | 30,333
Nevada
NV-1 | Nevada Legal Services, Inc. | 1,739,800
MNV | Nevada Legal Services, Inc. | 2,303
NNV-1 | Nevada Legal Services, Inc. | 122,027
New Hampshire
NH-1 | Legal Advice & Referral Center, Inc. | 656,025
New Jersey
NJ-8 | Essex-Newark Legal Services Project, Inc. | 995,426
NJ-12 | Ocean-Monmouth Legal Services, Inc. | 609,696
NJ-15 | Legal Services of Northwest Jersey | 359,711
NJ-16 | South Jersey Legal Services | 1,224,558
NJ-17 | Central Jersey Legal Services, Inc. | 999,534
NJ-18 | Northeast New Jersey Legal Services Corporation | 1,626,610
MNJ | South Jersey Legal Services | 110,488
New Mexico
NM-1 | DNA-Peoples Legal Services, Inc. | 198,760
NM-5 | New Mexico Legal Aid | 2,507,253
MNM | New Mexico Legal Aid | 79,971
NNM-2 | DNA-Peoples Legal Services, Inc. | 20,848
NNM-4 | New Mexico Legal Aid | 426,386
New York
NY-7 | Nassau/Suffolk Law Services Committee, Inc. | 1,273,650
NY-9 | Legal Services for New York City | 13,981,363
NY-20 | Westchester/Putnam Legal Services, Inc. | 1,638,316
NY-21 | Legal Aid Society of Northeastern New York, Inc. | 1,230,479
NY-22 | Legal Aid Society of Mid-New York, Inc. | 1,612,863
NY-23 | Monroe County Legal Assistance Corporation | 1,581,051
NY-24 | Neighborhood Legal Services, Inc. | 1,231,139
MNY | Legal Aid Society of Mid-New York, Inc. | 253,458
North Carolina
NC-5 | Legal Aid of North Carolina, Inc. | 7,628,929
MNC | Legal Aid of North Carolina, Inc. | 490,755
NNC-1 | Legal Aid of North Carolina, Inc. | 200,279
North Dakota
ND-3 | Legal Assistance of North Dakota, Inc. | 516,029
MND | Southern Minnesota Regional Legal Services, Inc. | 106,134
NND-3 | Legal Assistance of North Dakota, Inc. | 247,196
Ohio
OH-5 | The Legal Aid Society of Columbus | 1,179,430
OH-17 | Ohio State Legal Services | 1,652,406
OH-18 | Legal Aid Society of Greater Cincinnati | 1,363,338
OH-20 | Community Legal Aid Services, Inc. | 1,608,243
OH-21 | The Legal Aid Society of Cleveland | 1,994,832
OH-23 | Legal Services of Northwest Ohio, Inc. | 2,370,794
MOH | Legal Services of Northwest Ohio, Inc. | 115,342
Oklahoma
OK-3 | Legal Aid Services of Oklahoma, Inc. | 4,103,348
MOK | Legal Aid Services of Oklahoma, Inc. | 57,298
NOK-1 | Oklahoma Indian Legal Services, Inc. | 751,381
Oregon
OR-2 | Lane County Legal Aid Service, Inc. | 325,798
OR-4 | Marion-Polk Legal Aid Service, Inc. | 321,140
OR-5 | Legal Aid Services of Oregon | 2,135,550
MOR | Legal Aid Services of Oregon | 510,049
NOR-1 | Legal Aid Services of Oregon | 169,404
Pennsylvania
PA-1 | Philadelphia Legal Assistance Center | 2,810,294
PA-5 | Laurel Legal Services, Inc. | 698,197
PA-8 | Neighborhood Legal Services Association | 1,521,899
PA-11 | Southwestern Pennsylvania Legal Services, Inc. | 507,254
PA-23 | Legal Aid of Southeastern Pennsylvania | 1,031,923
PA-24 | North Penn Legal Services, Inc. | 1,646,150
PA-25 | MidPenn Legal Services, Inc. | 2,013,874
PA-26 | Northwestern Legal Services | 664,217
MPA | Philadelphia Legal Assistance Center | 151,761
Puerto Rico
PR-1 | Puerto Rico Legal Services, Inc. | 15,389,509
PR-2 | Community Law Office, Inc. | 317,341
MPR | Puerto Rico Legal Services, Inc. | 266,222
Rhode Island
RI-1 | Rhode Island Legal Services, Inc. | 1,019,395
South Carolina
SC-8 | The South Carolina Centers for Equal Justice | 4,459,205
MSC | The South Carolina Centers for Equal Justice | 181,118
South Dakota
SD-2 | East River Legal Services | 370,061
SD-4 | Dakota Plains Legal Services, Inc. | 438,556
MSD | Dakota Plains Legal Services, Inc. | 3,634
NSD-1 | Dakota Plains Legal Services, Inc. | 856,833
Tennessee
TN-4 | Memphis Area Legal Services, Inc. | 1,301,693
TN-7 | West Tennessee Legal Services, Inc. | 607,282
TN-9 | Legal Aid of East Tennessee | 1,988,371
TN-10 | Legal Aid Society of Middle TN and the Cumberlands | 2,369,705
MTN | Texas RioGrande Legal Aid | 58,077
Texas
TX-13 | Lone Star Legal Aid | 8,782,062
TX-14 | Legal Aid of NorthWest Texas | 6,928,878
TX-15 | Texas RioGrande Legal Aid | 9,422,589
MTX | Texas RioGrande Legal Aid | 1,271,888
NTX-1 | Texas RioGrande Legal Aid | 28,721
Utah
UT-1 | Utah Legal Services, Inc. | 1,685,441
MUT | Utah Legal Services, Inc. | 62,108
NUT-1 | Utah Legal Services, Inc. | 75,497
Vermont
VT-1 | Legal Services Law Line of Vermont, Inc. | 462,704
Virgin Islands
VI-1 | Legal Services of the Virgin Islands, Inc. | 295,858
Virginia
VA-15 | Southwest Virginia Legal Aid Society, Inc. | 751,353
VA-16 | Legal Services of Eastern Virginia, Inc. | 1,297,991
VA-17 | Virginia Legal Aid Society, Inc. | 782,140
VA-18 | Central Virginia Legal Aid Society, Inc. | 922,062
VA-19 | Blue Ridge Legal Services, Inc. | 650,572
VA-20 | Potomac Legal Aid Society, Inc. | 1,013,060
MVA | Central Virginia Legal Aid Society, Inc. | 144,418
Washington
WA-1 | Northwest Justice Project | 4,518,273
MWA | Northwest Justice Project | 668,357
NWA-1 | Northwest Justice Project | 261,416
West Virginia
WV-5 | Legal Aid of West Virginia, Inc. | 2,641,229
MWV | Legal Aid of West Virginia, Inc. | 33,473
Wisconsin
WI-2 | Wisconsin Judicare, Inc. | 861,260
WI-5 | Legal Action of Wisconsin, Inc. | 3,016,900
MWI | Legal Action of Wisconsin, Inc. | 83,367
NWI-1 | Wisconsin Judicare, Inc. | 142,351
Wyoming
WY-4 | Wyoming Legal Services, Inc. | 452,556
MWY | Wyoming Legal Services, Inc. | 11,391
NWY-1 | Wyoming Legal Services, Inc. | 158,578

These grants and contracts will be awarded under the authority conferred on LSC by the Legal Services Corporation Act, as amended (42 U.S.C. 2996e(a)(1)). Awards will be made so that each service area is served. None of the listed organizations is guaranteed an award or contract. This public notice is issued pursuant to the LSC Act (42 U.S.C. 2996f(f)), with a request for comments and recommendations concerning the potential grantees within a period of thirty (30) days from the date of publication of this notice. Grants will be distributed on or about January 1, 2005.

Dated: September 28, 2004.
Michael A. Genz,
Director, Office of Program Performance, Legal Services Corporation.

[FR Doc. 04-22185 Filed 10-1-04; 8:45 am]

BILLING CODE 7050-01-P